DEPARTMENT OF DEFENSE

Department of the Army, Corps of Engineers

Intent To Prepare a Draft Environmental Impact Statement (DEIS) for the Transfer of Federal Lands to the State of South Dakota

AGENCY: U.S. Army Corps of Engineers, DoD.

ACTION: Notice of intent.

SUMMARY: In accordance with the National Environmental Policy Act (NEPA) and implementing regulations, a DEIS will be prepared to conduct a comprehensive study of the potential impacts of the transfer of Corps of Engineers lands to the State of South Dakota for fish and wildlife purposes, or recreation uses, in perpetuity.

FOR FURTHER INFORMATION CONTACT: To request additional information, please contact Patsy Freeman, CENWO-PM-AE, U.S. Army Corps of Engineers, 215 North 17th Street, Omaha, Nebraska 68102-4978, telephone at (402) 221-3803, or E-Mail patricia.l.freeman@usace.army.mil.

SUPPLEMENTARY INFORMATION: As a result of section 605 of the legislation of the Water Resources Development Act (WRDA) Public Law 106-53, August 17, 1999, as amended by WRDA 2000, Title VI—Cheyenne River Sioux Tribe, Lower Brule Sioux Tribe, and State of South Dakota Terrestrial Wildlife Habitat Restoration Act, the Secretary of the Army is required to transfer approximately 92,000 acres of land and recreation areas at Lake Oahe, Lake Sharpe, Lewis & Clark Lake, and Lake Francis Case in South Dakota to the Department of Game, Fish & Parks of the State of South Dakota (SDGFP) for fish and wildlife purposes, or recreation uses, in perpetuity. These lands are located above the top of the exclusive flood pool levels of the Oahe, Big Bend, Fort Randall and Gavin's Point projects; were acquired by the Secretary for the implementation of the Pick-Sloan Missouri River Basin program; are located outside the external boundaries of a reservation of an Indian Tribe; and are located within the State of South Dakota. Section 605 also states that the following provisions of law shall apply to land transferred to the State: (1) The National Historic Preservation Act, (2) the Archaeological Resources Protection Act of 1979, and (3) the Native American Graves Protection Act and Repatriation Act.

Approximately 54 recreation areas will be transferred. WRDA 2000 requires transfer of recreation areas by January 1, 2002. The legislation also requires 42,000 acres of land to be transferred to the Department of the Interior to be held in trust for two Indian Tribes (Cheyenne River Sioux Tribe and the Lower Brule Sioux Tribe). That action is categorically excluded from preparation of a NEPA document and will occur separately.

1. Because the Corps of Engineers has no discretion with respect to transfer of the land, no reasonable alternatives to the transfer of land to the State of South Dakota exist as a result of the legislation associated with the action (WRDA, Public Law 106-53). The alternatives that will be discussed are (1) the transfer of all required lands to the State of South Dakota, and (2) the No Action alternative. NEPA requires consideration of the “No Action” alternative, which in this case would be no transfer (continued management by the Corps of Engineers). Implementation of the “No Action” alternative is not within the authority of the Corps. To rescind Public Law 106-53, congressional action would be required. Since there is no agency decision-making associated with this action, the EIS is being prepared for the purposes of public disclosure.

2. Nothing in the Title VI (title) diminishes or affects (a) any water right of an Indian Tribe; (b) any other right of an Indian Tribe, except as specifically provided in another provision of the title; (c) treaty right that is in effect on the date of enactment of this Act; (d) any external boundary of an Indian reservation of an Indian Tribe; (e) any authority of the State of South Dakota that relates to the protection, regulation, or management of fish, terrestrial wildlife, and cultural and archaeological resources, except as specifically provided in the title; or (f) any authority of the Secretary, the Secretary of the Interior, or the head of any other Federal agency under a law in effect on the date of enactment of the Act, including the National Historic Preservation Act, the Archaeological Resources Protection Act of 1979, the Fish and Wildlife Coordination Act, the Act entitled “An Act for the protection of the bald eagle” approved June 8, 1940, the Migratory Bird Treaty Act, the Endangered Species Act of 1973, the Native American Graves Protection and Repatriation Act, the Federal Water Pollution Control Act (commonly known as the “Clean Water Act”), the Safe Drinking Water Act, and the National Environmental Policy Act of 1969.

3. Public scoping meeting will be held on the following dates at the following locations: March 12, 2001 at 5PM at the Cedar Shore Resort, 1500 Shoreline Drive in Oacoma, SD; March 13, 2001 at the Wrangler Motor Inn, 800 West Grand Crossing in Mobridge, SD; March 14, 2001 at the Best Western Ramkota Hotel, 920 West Sioux Avenue in Pierre, SD; and March 15, 2001 at Dave's at the Best Western, 1607 East Hwy 50 in Yankton, SD. An Open House session will be held at 5 PM, with the formal session beginning at 7 PM.

Results from the public scoping meeting(s) with the District and Federal, State and local agency coordination will be addressed in the DEIS. Parties interested in receiving notices of public scoping meeting(s) or copies of the Scoping Document should contact Patsy Freeman at the above address.

4. Federal agencies interested in participating as a Cooperating Agency are requested to submit a letter of intent to Colonel Mark E. Tillotson, District Engineer, at the above address.

5. Estimated Date of DEIS availability: July 2001.

Candace M. Gorton,
Chief, Environmental and Economics Section, Planning Branch, Planning, Programs and Project Management Division.

[FR Doc. 01-4248 Filed 2-20-01; 8:45 am]

BILLING CODE 3710-62-P